DEPARTMENT OF HOUSING AND URBAN DEVELOPMENT

[Docket No. FR-5603-N-62]

Notice of Submission of Proposed Information Collection to OMB Disaster Recovery Grant Reporting System

AGENCY: Office of the Chief Information Officer, HUD

ACTION: Notice.

SUMMARY: The proposed information collection requirement described below has been submitted to the Office of Management and Budget (OMB) for review, as required by the Paperwork Reduction Act. The Department is soliciting public comments on the subject proposal.

The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations. The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Neighborhood Stabilization Program (NSP) was established for the purpose of stabilizing communities that have suffered as a result of foreclosures and property abandonment. On July 21, 2010, President Obama signed the Dodd-Frank Wall Street Reform and Consumer Protection Act (Dodd-Frank Act) into law (Pub. L. 111-203). This law provides $1 billion of formula grant funding for the redevelopment of foreclosed and abandoned homes to be allocated under the terms of Title XII, Division A, Section 2 of the American Recovery and Reinvestment Act (Recovery Act) and by the formula factors provided in Title III of Division B of the Housing and Economic Recovery Act of 2008 (Pub. L. 110-289) (HERA). In 2008, HERA provided for an initial round of formula funding to regular State and entitlement Community Development Block Grant (CDBG) grantees through the Neighborhood Stabilization Program (NSP1).¹ The Recovery Act provided for a neighborhood stabilization grant competition open to state and local governments, as well as non-profit groups and consortia that may include for-profit entities (NSP2).² The Dodd-Frank Act is the third round of Neighborhood Stabilization Funding (NSP3). Although NSP funds are otherwise to be considered CDBG funds, HERA, the Recovery Act and the Dodd-Frank Act make substantive revisions to the eligibility, use, and method of distribution of NSP3 funds. For NSP1 and NSP3, grantees are required to submit substantial amendments to their consolidated plans to secure funding they are entitled to under the formula grants. NSP3 Technical Assistance grants were appropriated under Dodd-Frank Wall Street Reform and Consumer Protection Act (Dodd-Frank Act) (Pub. L. 111-203). Grantees were selected through a competitive process set forth in the NSP3-TA Notice of Funding Availability (NOFA),³ with the purpose of assessing the need for technical assistance and targeting technical assistance in order to achieve the highest level of performance and results for the programs administered by HUD's Office of Community Planning and Development. Eligible applicants include states, units of local government, public housing authorities, non-profit organizations, for-profit entities, and joint applicants NSP-TA grants. CDBG-DR and NSP grant funds are made available to states and units of general local government, Indian tribes, and insular areas, unless provided otherwise by supplemental appropriations statute. NSP-TA grant funds are awarded on a competitive basis and are open to state and local governments, as well as non-profit groups and consortia that may include for-profit entities.

DATES: Comments Due Date: October 12, 2012.

ADDRESSES: Interested persons are invited to submit comments regarding this proposal. Comments should refer to the proposal by name and/or OMB approval Number (2506-0165) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street, SW., Washington, DC 20410; email Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Disaster Recovery Grant Reporting System.

OMB Approval Number: 2506-0165.

Form Numbers: SF-424 Application for Federal Assistance.

Description of The Need for the Information and Its Proposed

The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations. The CDBG program is authorized under Title I of the Housing and Community Development Act of 1974, as amended. Following major disasters, Congress appropriates supplemental CDBG funds for disaster recovery.

According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Neighborhood Stabilization Program (NSP) was established for the purpose of stabilizing 2010, President Obama signed the Dodd-Frank Wall Street Reform and Consumer Protection Act (Dodd-Frank Act) into law (Pub. L. 111-203). This law provides $1 billion of formula grant funding for the redevelopment of foreclosed and abandoned homes to be allocated under the terms of Title XII, Division A, Section 2 of the American Recovery and Reinvestment Act (Recovery Act) and by the formula factors provided in Title III of Division B of the Housing and Economic Recovery Act of 2008 (Pub. L. 110-289) (HERA). In 2008, HERA provided for an initial round of formula funding to regular State and entitlement Community Development Block Grant (CDBG) grantees through the Neighborhood Stabilization Program (NSP1).¹ The Recovery Act provided for a neighborhood stabilization grant competition open to state and local governments, as well as non-profit groups and consortia that may include for-profit entities (NSP2).² The Dodd-Frank Act is the third round of Neighborhood Stabilization Funding (NSP3). Although NSP funds are otherwise to be considered CDBG funds, HERA, the Recovery Act and the Dodd-Frank Act make substantive revisions to the eligibility, use, and method of distribution of NSP3 funds. For NSP1 and NSP3, grantees are required to submit substantial amendments to their consolidated plans to secure funding they are entitled to under the formula grants. NSP3 Technical Assistance grants were appropriated under Dodd-Frank Wall Street Reform and Consumer Protection Act (Dodd-Frank Act) (Pub. L. 111-203). Grantees were selected through a competitive process set forth in the NSP3-TA Notice of Funding Availability (NOFA),³ with the purpose of assessing the need for technical assistance and targeting technical assistance in order to achieve the highest level of performance and results for the programs administered by HUD's Office of Community Planning and Development. Eligible applicants include states, units of local government, public housing authorities, non-profit organizations, for-profit entities, and joint applicants. NSP-TA grants. CDBG-DR and NSP grant funds are made available to states and units of general local government, Indian tribes, and insular areas, unless provided otherwise by supplemental appropriations statute. NSP-TA grant funds are awarded on a competitive basis and are open to state and local governments, as well as non-profit groups and consortia that may include for-profit entities.

| Number of respondents | Annual responses | × | Hours per response | Burden hours
Reporting Burden | 53 | 4 |  | 41.849 | 8,872

Total Estimated Burden Hours: 8,872.

Status: Reinstatement with change of previously approved collection.

Authority: Section 3507 of the Paperwork Reduction Act of 1995, 44 U.S.C. 35, as amended.

Dated: September 7, 2012.
Colette Pollard,
Department Reports Management Officer, Office of the Chief Information Officer.

[FR Doc. 2012-22475 Filed 9-11-12; 8:45 am]

BILLING CODE 4210-67-P